DEPARTMENT OF HOMELAND SECURITY

Federal Emergency Management Agency

44 CFR Part 67

[Docket ID FEMA-2008-0020]

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Branch, Mitigation Directorate, Federal Emergency Management Agency, 500 C Street SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Assistant Administrator of the Mitigation Directorate has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground Modified | Communities affected
Alameda County, California and Incorporated Areas
Docket Nos.: FEMA-B-7795 and FEMA-B-7763
Arroyo Las Positas | Approximately 1,155 feet downstream of North Livermore Avenue | +444 | City of Livermore.
| Approximately 1,040 feet downstream of North Livermore Avenue | +445
Arroyo Las Positas (Shallow Flooding) | Approximately 530 feet east of the intersection of Airway Boulevard and Terminal Court | #2 | City of Livermore.
Arroyo del Valle | Approximately 0.7 mile downstream of Arroyo Road | +514 | Unincorporated Areas of Alameda County.
| Approximately 1,700 feet downstream of Arroyo Road | +531
Castro Valley Creek (Line I) | Approximately 800 feet downstream of North 4th Street | +125 | Unincorporated Areas of Alameda County, City of Hayward.
| Upstream side of Pine Street | +168
Castro Valley Creek (Line J) | At the confluence with Castro Valley Creek (Line I) | +164 | Unincorporated Areas of Alameda County.
| Approximately 70 feet upstream of Seaview Avenue | +332
Chabot Creek (Line G) | Approximately 0.5 mile downstream of Grove Way | +110 | Unincorporated Areas of Alameda County, City of Hayward.
| Approximately 700 feet upstream of Wisteria Street | +172
Dublin Creek | Approximately 60 feet upstream of the confluence with Line J-1 | +332 | City Pleasanton.
| Approximately 255 feet upstream of San Ramon Road | +369
Line B | At the confluence of Line B and Line D | +11 | City Newark.
| At the crossing of Line B and Mowry Avenue | +11
San Francisco Bay | Along Oakland Inner Harbor, Alameda Harbor, Brooklyn Basin, Alaska Basin, Fartmann Basin, Tidal Canal, San Leandro Bay and San Leandro Channel | +9 | City Alameda.
San Francisco Bay | Area approximately 350 feet south of Neil Armstrong Way and Edward White Way | +10 | City Oakland.
San Francisco Bay | Approximately 1,600 feet northwest of Marshlands Road and Thornton Avenue | +11 | City Fremont.
| Approximately 400 feet east of Quarry Road and SH 84 | +11
San Lorenzo Creek (Shallow Flooding) | Shallow flooding areas between the San Francisco Bay and Center Street | #1 | City San Leandro, City of Hayward, Unincorporated Areas of Alameda County.
Shallow Flooding | Between Pine Street and Castro Valley Boulevard | +169 | Unincorporated Areas of Alameda County.
Tassajara Creek (Zone 7) | Approximately 450 feet southwest of Tassajara Road and Shadow Hill Drive | +404 | Unincorporated Areas of Alameda County.
| Approximately 320 feet southwest of Tassajara Road and Shadow Hill Drive | +406
* National Geodetic Vertical Datum.
+ North American Vertical Datum.
# Depth in feet above ground.
ADDRESSES
City of Alameda
Maps are available for inspection at City of Alameda Public Works Department, 950 West Mall Square, Room 110, Alameda, CA.
City of Fremont
Maps are available for inspection at City of Fremont Development and Environmental Services Department, Engineering Division, 39550 Liberty Street, Fremont, CA.
City of Hayward
Maps are available for inspection at City of Hayward Engineering and Transportation Division, 777 B Street, Hayward, CA.
City of Livermore
Maps are available for inspection at City of Livermore Community Development Department, 1052 South Livermore Avenue, Livermore, CA.
City of Newark
Maps are available for inspection at City of Newark Administration Building, Building Inspection Division, 37101 Newark Boulevard, Newark, CA.
City of Oakland
Maps are available for inspection at City of Oakland Community and Economic Development Department, One Frank Ogawa Plaza, Oakland, CA.
City of Pleasanton
Maps are available for inspection at Pleasanton City Hall, 123 Main Street, Pleasanton, CA.
City of San Leandro
Maps are available for inspection at City of San Leandro Building Department, 835 East 14th Street, San Leandro, CA.
Unincorporated Areas of Alameda County
Maps are available for inspection at Alameda County Public Works Agency, 399 Elmhurst Street, Hayward, CA.
Kane County, Illinois, and Incorporated Areas
FEMA Docket No.: B-7752
Aurora Chain of Lakes (previously Blackberry Creek Tributary H) | 1,000 feet downstream of Prairie Street | +666 | City of Aurora, Unincorporated Areas of Kane County.
| Downstream of Indian Trail Road | +683
Aurora Chain of Lakes Cherry Hills Diversion (previously Blackberry Creek Tributary H) | Confluence with Aurora Chain of Lakes | +667 | City of Aurora.
| Confluence with overflow from East Run | +670
Blackberry Creek | 300 feet upstream of county boundary | +660 | Unincorporated Areas of Kane County, City of Aurora, Village of Elburn, Village of Montgomery, Village of Sugar Grove.
| 1200 feet upstream of State Route 38 | +848
East Run (Previously Blackberry Creek Tributary A) | 500 feet upstream of Indian Trail Road | +675 | Unincorporated Areas of Kane County, City of Aurora, Village of North Aurora.
| 245 feet upstream of Oak Street Culvert | +701
East Run North Branch | Confluence with East Run | +683 | Unincorporated Areas of Kane County, Village of North Aurora.
| Confluence with overflow from East Run | +686
East Run North Loop | Confluence with East Run | +676 | Unincorporated Areas of Kane County, City of Aurora, Village of North Aurora.
| Divergence from East Run | +683
Elburn Run (Previously Blackberry Creek Tributary D) | Confluence at Blackberry Creek | +739 | Unincorporated Areas of Kane County, Village of Elburn.
| 200 feet upstream of BCNW Railroad | +834
Indian Creek | Confluence with Fox River | +635 | Unincorporated Areas of Kane County, City of Aurora, City of Batavia.
| FERMI Lab Berm | +737
Indian Creek Tributary B | Confluence with Indian Creek | +708 | Unincorporated Areas of Kane County, City of Aurora.
| Approx. 850 feet upstream of Loreen Drive | +716
Lake Run (Previously Blackberry Creek Tributary B) | Confluence at Blackberry Creek | +677 | Unincorporated Areas of Kane County, Village of North Aurora, Village of Sugar Grove.
| 125 feet upstream of Hughes Road | +785
Lake Run Main Street Branch (Previously Main Street Ditch) | Confluence with Lake Run | +706 | Unincorporated Areas of Kane County.
| Approx. 2875 feet upstream of Main Street | +709
Lake Run Nelson | Confluence with Lake Run | +695 | Unincorporated Areas of Kane County.
Lake Branch (Previously Blackberry Creek Tributary B) | At the inlet to Nelson Lake, just downstream of the unnamed road | +696
Lake Run North of I-88 Overflow | Confluence with Lake Run | +684 | Unincorporated Areas of Kane County, City of Aurora, Village of North Aurora.
| Confluence with Overflow from Lake Run | +686
Lake Run North of I-88 Overflow East Branch | Confluence with Lake Run North of I88 Overflow | +685 | Unincorporated Areas of Kane County, City of Aurora.
| Approx. 1,850 feet upstream of confluence with Lake Run North of I-88 Overflow | +685
Lake Run South I-88 Diversion | Confluence with Lake Run | +680 | Unincorporated Areas of Kane County.
| Immediately downstream of East-West Tollway | +682
Prestbury Branch (previously Blackberry Creek Tributary E) | Confluence with Blackberry Creek | +678 | Unincorporated Areas of Kane County, Village of Sugar Grove.
| Immediately downstream of Denny Road | +688
Route 38 Branch | Confluence with Blackberry Creek | +831 | Unincorporated Areas of Kane County.
| 2,550 feet upstream of Route 38 and 175′ east of Bowgren Circle | +850
Seavey Road Run (previously Blackberry Creek Tributary C) | 150 feet upstream of State Route 47 | +709 | Unincorporated Areas of Kane County.
| Approx. 1,050 feet upstream of Main Street | +769
Seavey Road Run Green Road Branch | Confluence with Seavey Road Run | +726 | Unincorporated Areas of Kane County.
| 125 feet upstream of Green Road | +735
Seavey Road Run Main Street Branch | Confluence with Seavey Road Run | +721 | Unincorporated Areas of Kane County.
| Approx. 150 feet upstream of Main Street | +750
Selmarten Creek | Immediately upstream of Thompson Lane | +715 | City of Aurora, Unincorporated Areas of Kane County.
| County Boundary | +718
South Tributary | Confluence with Indian Creek | +685 | Unincorporated Areas of Kane County.
| County Boundary | +703
Tollway Tributary | Confluence with Indian Creek | +710 | Unincorporated Areas of Kane County.
| Approx. 700 feet upstream of Molitor Road | +714
* National Geodetic Vertical Datum.
+ North American Vertical Datum.
# Depth in feet above ground.
ADDRESSES
City of Aurora
Maps are available for inspection at Aurora City Planning Department, Aurora City Hall, 44 East Downer Place, Aurora, IL 60507.
City of Batavia
Maps are available for inspection at City of Batavia Engineering Department, 100 North Island Avenue, Batavia, IL 60510.
Unincorporated Areas of Kane County
Maps are available for inspection at Kane County Government Center Bldg., Water Resources Depart., 719 Batavia Avenue, Geneva, IL 60134.
Village of Elburn
Maps are available for inspection at Elburn Village Hall, 301 East North Street, Elburn, IL 60119.
Village of Montgomery
Maps are available for inspection at Montgomery Village Hall, 1300 South Broadway, Montgomery, IL 60538.
Village of North Aurora
Maps are available for inspection at North Aurora Village Hall, 25 E. State Street, North Aurora, IL 60542.
Village of Sugar Grove
Maps are available for inspection at Sugar Grove Village Hall, 10 Municipal Drive, Sugar Grove, IL 60554.
Allen County, Indiana, and Incorporated Areas
FEMA Docket No.: B-7720
Aboite Creek | Approximately 350 feet downstream of Powell Road | +755 | Unincorporated Areas of Allen County.
| Approximately 2,000 feet upstream of Powell Road | +755
Brown Ditch | At the confluence with Adam Schlemmer-Baker Ditch | +792 | Unincorporated Areas of Allen County.
| Approximately 650 feet upstream of the confluence with Adam Schlemmer-Baker Ditch | +792
Bullerman Branch | Approximately 775 feet upstream of the confluence with Bullerman Ditch | +778 | Unincorporated Areas of Allen County, City of Fort Wayne.
| Approximately 600 feet downstream of Stellhorn Road | +778
Durnell Ditch | Approximately 1,056 feet upstream of Interstate Highway 69 | +786 | City of Fort Wayne.
| Approximately 615 feet downstream of State Highway 14/Illinois Road | +807
Junk Ditch | At the confluence with St. Mary's River | +759 | City of Fort Wayne.
| Approximately 150 feet upstream of Taylor Street | +759
Lawrence Branch | At the confluence with Flaugh Ditch | +776 | City of Fort Wayne.
| Approximately 150 feet upstream of the confluence with Flaugh Ditch | +776
Martin Ditch | At the confluence with Maumee River | +748 | City of New Haven.
| Approximately 2,900 feet upstream of confluence with Maumee River | +748
St. Mary's River | Just downstream of Bostick Road | +772 | Unincorporated Areas of Allen County.
| At South County Line Road East | +778
Willow Creek Branch No. 7 | At the confluence with Willow Creek | +824 | Unincorporated Areas of Allen County.
| Approximately 1,500 feet downstream of Woods Road | +824
* National Geodetic Vertical Datum.
+ North American Vertical Datum.
# Depth in feet above ground.
ADDRESSES
City of Fort Wayne
Maps are available for inspection at 1 Main Street, Room 630, Fort Wayne, IN 46802.
City of New Haven
Maps are available for inspection at 815 Lincoln Highway East, New Haven, IN 46774.
Allen County (Unincorporated Areas)
Maps are available for inspection at 1 East Main Street, Room 630, Fort Wayne, IN 46802.
Johnson County, Kansas, and Incorporated Areas
FEMA Docket No.: D-7824
Bain Creek | At the confluence with Niles Creek | +946 | Unincorporated Areas of Johnson County.
| Approximately 800 feet upstream of West 183rd Street | +1025
Bain Creek Tributary B | At the confluence with Bain Creek | +998 | Unincorporated Areas of Johnson County, City of Spring Hill.
| At Lone Elm Road | +1023
Big Bull Creek | At the County Boundary | +936 | Unincorporated Areas of Johnson County.
| Approximately 5,060 feet upstream of the confluence of Big Bull Creek Tributary J | +1011
Big Bull Creek Tributary A | At the County Boundary | +947 | Unincorporated Areas of Johnson County.
| Approximately 8,260 feet upstream of the County Boundary | +1001
Big Bull Creek Tributary C | At the confluence with with Big Bull Creek | +938 | Unincorporated Areas of Johnson County.
| Approximately 3,130 feet upstream of the confluence with Big Bull Creek | +946
Big Bull Creek Tributary D | At the confluence with Big Bull Creek | +941 | Unincorporated Areas of Johnson County, City of Gardner.
| Approximately 950 feet upstream of Interstate Highway 35 Ramp | +1027
Big Bull Creek Tributary E | At the confluence with Big Bull Creek | +949 | Unincorporated Areas of Johnson County, City of Gardner.
| Approximately 6,050 feet upstream of Waverly Road | +1037
Big Bull Creek Tributary F | At the confluence with Big Bull Creek | +961 | Unincorporated Areas of Johnson County.
| Approximately 660 feet upstream of West 183rd Street | +1019
Big Bull Creek Tributary H | At the confluence with Big Bull Creek | +981 | Unincorporated Areas of Johnson County.
| Approximately 1,350 feet upstream of the confluence with Big Bull Creek | +986
Big Bull Creek Tributary I | At the confluence with Big Bull Creek | +988 | Unincorporated Areas of Johnson County.
| Approximately 2,180 feet upstream of West 183rd Street | +999
Blue River | Approximately 5,025 feet downstream of County Boundary | +865 | Unincorporated Areas of Johnson County, City of Leawood, City of Overland Park.
| At the confluence of Coffee Creek | +913
Blue River Tributary A | At the County Boundary | +905 | City of Leawood.
| At West 135th Street | +924
Blue River Tributary B | At the County Boundary | +865 | City of Leawood, City of Overland Park.
| At West 143rd Street | +883
Blue River Tributary C | At the confluence with Blue River | +898 | Unincorporated Areas of Johnson County.
| Approximately 325 feet upstream of West 167th Street | +902
Blue River Tributary D | At the confluence with Blue River | +900 | Unincorporated Areas of Johnson County.
| Approximately 565 feet upstream of the confluence with Blue River | +900
Blue River Tributary E | At the confluence with Blue River | +900 | Unincorporated Areas of Johnson County.
| Approximately 1,055 feet upstream of the confluence with Blue River | +904
Blue River Tributary F | At the confluence with Blue River | +907 | City of Overland Park.
| At U.S. Highway 69 | +959
Brush Creek | At State Line Road | +856 | City of Fairway, City of Mission Hills, City of Mission Woods, City of Overland Park, City of Prairie Village.
| Approximately 3,600 feet upstream of Nall Avenue | +982
Camp Branch | Approximately 420 feet upstream of Union Pacific Railroad | +895 | Unincorporated Areas of Johnson County, City of Overland Park.
| Approximately 6,230 feet upstream of West 199th Street | +1057
Camp Branch Tributary A | Approximately 1,275 feet upstream of the confluence with Camp Branch | +898 | Unincorporated Areas of Johnson County.
| Approximately 900 feet upstream of the confluence of Camp Branch Tributary AB | +1021
Camp Branch Tributary AA | At the confluence with Camp Branch Tributary A | +962 | Unincorporated Areas of Johnson County.
| Approximately 6,900 feet upstream of the confluence with Camp Branch Tributary A | +1038
Camp Branch Tributary C | At the confluence with Camp Branch | +941 | Unincorporated Areas of Johnson County.
| Approximately 490 feet upstream of the confluence with Camp Branch | +945
Camp Branch Tributary D | At the confluence with Camp Branch | +999 | Unincorporated Areas of Johnson County.
| Approximately 1,750 feet upstream of the confluence with Camp Branch | +1008
Camp Branch Tributary E | At the confluence with Camp Branch | +1000 | Unincorporated Areas of Johnson County.
| Approximately 815 feet upstream of the confluence of Camp Branch Tributary EA | +1017
Camp Branch Tributary EA | At the confluence with Camp Branch Tributary E | +1005 | Unincorporated Areas of Johnson County.
| Approximately 380 feet upstream of the confluence with Camp Branch Tributary E | +1007
Camp Creek | At the confluence with Cedar Creek | +798 | Unincorporated Areas of Johnson County, City of Desoto.
| Approximately 1,070 feet upstream of the confluence of Camp Creek Tributary F | +966
Camp Creek Tributary A | At the confluence with Camp Creek | +837 | Unincorporated Areas of Johnson County.
| Approximately 2,220 feet upstream of Waverly Road | +882
Camp Creek Tributary B | Approximately 370 feet upstream of the confluence with Camp Creek | +923 | Unincorporated Areas of Johnson County.
| At the confluence with Camp Creek | +923
Camp Creek Tributary D | At the confluence with Camp Creek | +938 | Unincorporated Areas of Johnson County.
| Approximately 1,135 feet upstream of the confluence with Camp Creek | +940
Camp Creek Tributary E | At the confluence with Camp Creek | +942 | Unincorporated Areas of Johnson County.
| Approximately 580 feet upstream of the confluence with Camp Creek | +944
Captain Creek | At the County Boundary | +820 | Unincorporated Areas of Johnson County, City of Desoto.
| At County Line Road | +922
Captain Creek East | Approximately 30 feet upstream of Burlington Northern & Santa Fe Railway | +798 | Unincorporated Areas of Johnson County.
| Approximately 2,670 feet upstream of West 95th Street | +845
Captain Creek Tributary E | At the confluence with Captain Creek | +902 | Unincorporated Areas of Johnson County.
| Approximately 3,780 feet upstream of Evening Star Road | +922
Captain Creek Tributary K | At County Line Road | +952 | Unincorporated Areas of Johnson County.
| Approximately 1,000 feet upstream of County Line Road | +953
Cedar Creek | Approximately 800 feet upstream of the confluence of Cedar Creek Tributary B | +786 | Unincorporated Areas of Johnson County, City of Desoto, City of Lenexa, City of Olathe.
| At Interstate Highway 35/U.S. Highway 50 | +1024
Cedar Creek Tributary B | Approximately 200 feet upstream of Cedar Creek Road | +786 | City of Desoto.
| Approximately 210 feet upstream of Cedar Creek Road | +786
Cedar Creek Tributary C | At the confluence with Cedar Creek | +787 | City of Desoto.
| Approximately 260 feet upstream of Cedar Creek Road | +794
Cedar Creek Tributary D | Approximately 2,235 feet upstream of the confluence with Cedar Creek | +789 | City of Desoto.
| At the confluence with Cedar Creek | +789
Cedar Creek Tributary E | Approximately 350 feet upstream of Cedar Creek Road | +798 | City of Desoto.
| At the confluence with Cedar Creek | +798
Cedar Creek Tributary G | At the confluence with Cedar Creek | +805 | Unincorporated Areas of Johnson County, City of Lenexa, City of Olathe.
| Approximately 440 feet upstream of the confluence of Cedar Creek Tributary GA | +847
Cedar Creek Tributary H | At the confluence with Cedar Creek | +810 | City of Olathe.
| Just upstream of South Bluestem Parkway | +921
Cedar Creek Tributary HA | Approximately 80 feet upstream of the confluence with Cedar Creek Tributary H | +883 | Unincorporated Areas of Johnson County, City of Olathe.
| Just upstream of State Highway 10 | +942
Cedar Creek Tributary HB | At the confluence with Cedar Creek Tributary H | +889 | City of Olathe.
| Approximately 1,650 feet upstream of the confluence with Cedar Creek Tributary H | +920
Cedar Creek Tributary L | At the confluence with Cedar Creek | +872 | Unincorporated Areas of Johnson County, City of Olathe.
| Just downstream of West 151st Street | +1016
Cedar Creek Tributary N | At the confluence with Cedar Creek | +943 | City of Olathe.
| At South Ward Cliff Drive | +953
Cedar Creek Tributary O | At the confluence with Cedar Creek | +943 | City of Olathe.
| At Old U.S. Highway 56 | +1021
Cedar Creek Tributary P | At the confluence with Cedar Creek | +974 | City of Olathe.
| Approximately 1,070 feet upstream of Burlington Northern & Santa Fe Railway | +1007
Cedar Creek Tributary Q | At the confluence with Cedar Creek | +979 | Unincorporated Areas of Johnson County, City of Olathe.
| Approximately 270 feet upstream of the confluence of Cedar Creek Tributary QC | +1061
Cedar Creek Tributary QA | At the confluence with Cedar Creek Tributary Q | +1008 | Unincorporated Areas of Johnson County, City of Olathe.
| Just downstream of Burlington Northern & Santa Fe Railway | +1037
Cedar Creek Tributary S | At the confluence with Cedar Creek | +1003 | Unincorporated Areas of Johnson County.
| At West 167th Street | +1018
Cedar Creek Tributary T | At the confluence with Cedar Creek | +1008 | Unincorporated Areas of Johnson County, City of Olathe
| Approximately 450 feet upstream of Clare Road | +1031
Clear Creek | At the confluence with Mill Creek | +784 | City of Lenexa, City of Shawnee.
| Approximately 2,040 feet upstream of Clare Road | +948
Clear Creek Tributary F | At the confluence with Clear Creek | +830 | City of Shawnee.
| Just downstream of West 71st Street | +901
Clear Creek Tributary G | At the confluence with Clear Creek | +909 | City of Shawnee, City of Lenexa.
| Approximately 410 feet upstream of Mize Boulevard | +919
Coffee Creek | At the confluence with Blue River | +913 | Unincorporated Areas of Johnson County, City of Olathe, City of Overland Park.
| Approximately 3,800 feet upstream of South Mur-Len Road | +1049
Coffee Creek Tributary A | At the confluence with Coffee Creek | +923 | Unincorporated Areas of Johnson County.
| Approximately 1,250 feet upstream of the confluence with Coffee Creek | +930
Coffee Creek Tributary B | At the confluence with Coffee Creek | +926 | Unincorporated Areas of Johnson County.
| Approximately 430 feet upstream of the confluence with Coffee Creek | +929
Coffee Creek Tributary C | At the confluence with Coffee Creek | +943 | City of Overland Park.
| Approximately 3,220 feet upstream of the confluence with Coffee Creek | +968
Coffee Creek Tributary D | At the confluence with Coffee Creek | +959 | Unincorporated Areas of Johnson County.
| Approximately 900 feet upstream of the confluence with Coffee Creek | +960
Coffee Creek Tributary E | At the confluence with Coffee Creek | +966 | City of Overland Park.
| Approximately 370 feet upstream of Quivira Road | +975
Coffee Creek Tributary F | At the confluence with Coffee Creek | +970 | City of Overland Park.
| Approximately 1,340 feet upstream of the confluence with Coffee Creek | +979
Coffee Creek Tributary H | At the confluence with Coffee Creek | +982 | City of Overland Park.
| Approximately 2,940 feet upstream of the confluence with Coffee Creek | +997
Coffee Creek Tributary I | At the confluence with Coffee Creek | +988 | Unincorporated Areas of Johnson County.
| Approximately 2,330 feet upstream of the confluence of Coffee Creek Tributary IA | +1019
Coffee Creek Tributary IA | At the confluence with Coffee Creek Tributary I | +1008 | Unincorporated Areas of Johnson County.
| Approximately 1,600 feet upstream of the confluence with Coffee Creek Tributary I | +1025
Coffee Creek Tributary J | At the confluence with Coffee Creek | +991 | Unincorporated Areas of Johnson County.
| Approximately 2,150 feet upstream of the confluence with Coffee Creek | +1001
Coffee Creek Tributary K | At the confluence with Coffee Creek | +1004 | Unincorporated Areas of Johnson County.
| Approximately 910 feet upstream of Lackman Road | +1013
Coffee Creek Tributary L | At the confluence with Coffee Creek | +1049 | City of Olathe.
| Approximately 1,775 feet upstream of the confluence with Coffee Creek | +1059
Coffee Creek Tributary P | At the confluence with Coffee Creek | +1048 | City of Olathe.
| Approximately 2,630 feet upstream of the confluence with Coffee Creek | +1058
Coon Creek | At the confluence with Mill Creek | +836 | City of Lenexa.
| Approximately 9,800 feet upstream of the confluence of Coon Creek Tributary B | +948
Coon Creek Tributary B | At the confluence with Coon Creek | +861 | City of Lenexa.
| Approximately 1,900 feet upstream of Monticello Road | +927
Dykes Branch | At State Line Road | +874 | City of Prairie Village, City of Leawood.
| At West 83rd Street | +928
Dykes Branch Tributary B | At the confluence with Dykes Branch | +881 | City of Leawood.
| Approximately 1,320 feet upstream of West 85th Terrace | +899
Hayes Creek | At the confluence with Mill Creek | +769 | City of Shawnee.
| Approximately 3,670 feet upstream of Holliday Drive | +791
Indian Creek | Approximately 600 feet downstream of State Line Road Northbound | +829 | City of Leawood, City of Olathe, City of Overland Park.
| At West 159th Street | +1062
Indian Creek Bypass No. 1 | At the convergence with Indian Creek | +920 | City of Overland Park.
| At the divergence from Indian Creek | +923
Indian Creek Tributary No. 1 | Approximately 180 feet downstream of West 103rd Street | +858 | City of Overland Park.
| At Roe Avenue | +897
Indian Creek Tributary No. 2 | At the confluence with Indian Creek | +865 | City of Overland Park.
| Approximately 1,100 feet upstream of Metcalf Avenue/U.S. Highway 169 | +923
Indian Creek Tributary No. 3 | Approximately 450 feet upstream of the confluence with Indian Creek | +869 | City of Overland Park.
| Approximately 920 feet upstream of West 93rd Street | +934
Indian Creek Tributary No. 4 | Approximately 50 feet upstream of the confluence with Indian Creek | +875 | City of Overland Park.
| At Antioch Road | +923
Indian Creek Tributary No. 5 | At the confluence with Indian Creek | +889 | City of Overland Park.
| Approximately 205 feet upstream of Knox Drive (North) | +951
Indian Creek Tributary No. 5 Bypass A | At the convergence with Indian Creek Tributary No. 5 | +901 | City of Overland Park.
| Approximately 110 feet downstream of the divergence from Indian Creek Tributary No. 5 | +915
Indian Creek Tributary No. 5 Bypass B | At the convergence with Indian Creek Tributary No. 5 | +929 | City of Overland Park.
| At the divergence from Indian Creek Tributary No. 5 | +936
Indian Creek Tributary No. 5 Bypass C | At the convergence with Indian Creek Tributary No. 5 | +936 | City of Overland Park.
| At the divergence from Indian Creek Tributary No. 5 | +950
Indian Creek Tributary No. 6 | At the confluence with Indian Creek | +1000 | City of Olathe.
| Just downstream of West 143rd Street | +1014
James Branch | Just upstream of the confluence with Indian Creek | +832 | City of Leawood.
| Approximately 660 feet upstream of Ensley Lane | +891
Kill Creek | Approximately 820 feet upstream of West 83rd Street | +792 | City of Gardner, City of Desoto, Unincorporated Areas of Johnson County.
| Approximately 5,750 feet upstream of West 167th Street | +1036
Kill Creek Tributary C | At the confluence with Kill Creek | +798 | City of Desoto.
| Just upstream of Lexington Avenue | +814
Kill Creek Tributary CA | At the confluence with Kill Creek Tributary C | +814 | City of Desoto, Unincorporated Areas of Johnson County.
| At Lexington Avenue | +847
Kill Creek Tributary F | At the confluence with Kill Creek | +813 | Unincorporated Areas of Johnson County.
| Approximately 7,480 feet upstream of the confluence with Kill Creek | +872
Kill Creek Tributary G | At the confluence with Kill Creek | +820 | Unincorporated Areas of Johnson County.
| Approximately 3,380 feet upstream of String Town Road | +862
Kill Creek Tributary H | At the confluence with Kill Creek | +832 | Unincorporated Areas of Johnson County.
| Just downstream of Homestead Lane | +889
Kill Creek Tributary I | At the confluence with Kill Creek | +869 | Unincorporated Areas of Johnson County.
| Approximately 1,865 feet upstream of the confluence of Kill Creek Tributary IA | +924
Kill Creek Tributary J | At the confluence with Kill Creek | +879 | Unincorporated Areas of Johnson County.
| At Walnut View Drive | +885
Kill Creek Tributary K | At the confluence with Kill Creek | +883 | City of Gardner, Unincorporated Areas of Johnson County.
| Approximately 240 feet upstream of the confluence of Kill Creek Tributary KC | +1003
Kill Creek Tributary KA | At the confluence with Kill Creek Tributary K | +937 | City of Gardner.
| Approximately 1,320 feet upstream of the confluence with Kill Creek Tributary K | +948
Kill Creek Tributary KC | At the confluence with Kill Creek Tributary K | +1002 | City of Gardner, Unincorporated Areas of Johnson County.
| Approximately 2,200 feet upstream of West 167th Street | +1010
Kill Creek Tributary L | At the confluence with Kill Creek | +887 | Unincorporated Areas of Johnson County.
| Approximately 1,030 feet upstream of the confluence with Kill Creek | +892
Kill Creek Tributary M | At the confluence with Kill Creek | +905 | Unincorporated Areas of Johnson County.
| Approximately 6,210 feet upstream of the confluence with Kill Creek | +950
Kill Creek Tributary N | At the confluence with Kill Creek | +919 | Unincorporated Areas of Johnson County.
| Approximately 3,080 feet upstream of Gardner Road | +1003
Kill Creek Tributary O | At the confluence with Kill Creek | +945 | Unincorporated Areas of Johnson County.
| Just downstream of West 151st Street | +947
Kill Creek Tributary P | At the confluence with Kill Creek | +996 | Unincorporated Areas of Johnson County.
| At West 159th Street | +1009
Kill Creek West Tributary C | Approximately 930 feet upstream of the confluence with Kill Creek West Tributary B | +803 | Unincorporated Areas of Johnson County.
| Approximately 1,120 feet upstream of Edgerton Road | +837
Lake Quivira | Approximately 800 feet downstream of County Boundary | +829 | City of Lake Quivira, City of Shawnee.
| Approximately 3,000 feet upstream of Lakeshore South Street | +854
Lake Quivira Tributary A | At the confluence with Lake Quivira | +829 | City of Lake Quivira, City of Shawnee.
| Approximately 1,930 feet upstream of Lakeshore West Street | +850
Lake Quivira Tributary AA | At the confluence with Lake Quivira Tributary A | +829 | City of Lake Quivira.
| At Lakeshore West Street | +832
Little Bull Creek | At the County Boundary | +939 | Unincorporated Areas of Johnson County.
| Approximately 700 feet upstream of West 199th Street | +1010
Little Bull Creek Tributary A | At the confluence with Little Bull Creek | +953 | Unincorporated Areas of Johnson County.
| Approximately 5,105 feet upstream of Cedar Niles Road | +1004
Little Cedar Creek | At the confluence with Cedar Creek | +845 | Unincorporated Areas of Johnson County, City of Olathe.
Just downstream of Old U.S. Highway 56 | +1023
Little Cedar Creek Tributary B | At the confluence with Little Cedar Creek | +866 | Unincorporated Areas of Johnson County, City of Olathe.
| Approximately 1,430 feet upstream of West 127th Street | +1005
Little Cedar Creek Tributary C | At the confluence with Little Cedar Creek | +881 | Unincorporated Areas of Johnson County, City of Olathe.
| Just downstream of College Boulevard | +980
Little Cedar Creek Tributary CA | At the confluence with Little Cedar Creek Tributary C | +957 | City of Olathe.
| Approximately 1,650 feet upstream of the confluence with Little Cedar Creek Tributary C | +961
Little Cedar Creek Tributary D | At the confluence with Little Cedar Creek | +909 | City of Olathe, Unincorporated Areas of Johnson County.
| Approximately 3,210 feet upstream of the confluence with Little Cedar Creek | +938
Little Cedar Creek Tributary F | At the confluence with Little Cedar Creek | +973 | City of Olathe.
| Just downstream of West Santa Fe Street | +978
Little Mill Creek | At the confluence with Mill Creek | +792 | City of Lenexa, City of Shawnee.
| At Brentwood Drive | +981
Little Mill Creek Tributary A | At the confluence with Little Mill Creek | +792 | City of Shawnee.
| At Midland Drive | +806
Little Mill Creek Tributary B | At the confluence with Little Mill Creek | +858 | City of Shawnee.
| Approximately 1,720 feet upstream of the confluence with Little Mill Creek | +871
Little Mill Creek Tributary C | Approximately 260 feet upstream of the confluence with Little Mill Creek | +861 | City of Shawnee.
| Approximately 460 feet upstream of the confluence with Little Mill Creek | +865
Little Mill Creek Tributary D | At the confluence with Little Mill Creek | +882 | City of Shawnee.
| Approximately 2,400 feet upstream of West 71st Street | +920
Little Mill Creek Tributary E | At the confluence with Little Mill Creek | +891 | City of Shawnee, City of Lenexa.
| Approximately 940 feet upstream of the confluence with Little Mill Creek | +896
Little Mill Creek Tributary F | At the confluence with Little Mill Creek | +897 | City of Shawnee, City of Lenexa.
| Approximately 880 feet upstream of the confluence of Little Mill Creek Tributary FA | +922
Little Mill Creek Tributary FA | At the confluence with Little Mill Creek Tributary F | +915 | City of Shawnee.
| Approximately 430 feet upstream of Blackfish Parkway | +923
Little Mill Creek Tributary H | At the confluence with Little Mill Creek | +927 | City of Lenexa.
| Approximately 1,340 feet upstream of the confluence with Little Mill Creek | +932
Little Mill Creek Tributary I | At the confluence with Little Mill Creek | +956 | City of Lenexa.
| Approximately 790 feet upstream of Greenway Lane | +961
Martin Creek | At the confluence with Big Bull Creek | +951 | City of Edgerton, Unincorporated Areas of Johnson County.
| Approximately 4,900 feet upstream of Old State Highway 56 | +1022
Martin Creek Tributary C | At the confluence with Martin Creek | +963 | City of Edgerton, Unincorporated Areas of Johnson County.
| Approximately 6,550 feet upstream of Burlington Northern & Santa Fe Railway | +1013
Martin Creek Tributary CA | At the confluence with Martin Creek Tributary C | +973 | City of Edgerton.
| Approximately 2,670 feet upstream of First Street | +1008
Martin Creek Tributary D | At the confluence with Martin Creek | +972 | Unincorporated Areas of Johnson County.
| Approximately 335 feet upstream of West 183rd Street | +1022
Martin Creek Tributary E | At the confluence with Martin Creek | +984 | Unincorporated Areas of Johnson County.
| Approximately 13,450 feet upstream of 191st Street | +1037
Martin Creek Tributary F | At the confluence with Martin Creek | +1001 | Unincorporated Areas of Johnson County.
| Approximately 5,500 feet upstream of the confluence with Martin Creek | +1027
Massey Creek | At State Line Road | +968 | Unincorporated Areas of Johnson County.
| Approximately 415 feet upstream of Mission Road | +1003
Massey Creek Tributary A | At the confluence with Massey Creek | +983 | Unincorporated Areas of Johnson County.
| Approximately 4,850 feet upstream of the confluence of Massey Creek Tributary AB | +1034
Massey Creek Tributary AA | At the confluence with Massey Creek Tributary A | +985 | Unincorporated Areas of Johnson County.
| Approximately 4,070 feet upstream of West 207th Street | +1028
Massey Creek Tributary AB | At the confluence with Massey Creek Tributary A | +1004 | Unincorporated Areas of Johnson County.
| Approximately 4,525 feet upstream of the confluence with Massey Creek Tributary A | +1027
Mill Creek | Just upstream of Wilder Road | +769 | City of Shawnee, City of Lenexa, City of Olathe, Unincorporated Areas of Johnson County.
| Approximately 2,000 feet upstream of East Cedar Street | +1016
Mill Creek Tributary A | At the confluence with Mill Creek | +773 | City of Shawnee.
| Just downstream of Woodland Drive | +773
Mill Creek Tributary B | At the confluence with Mill Creek | +785 | City of Shawnee.
| Approximately 530 feet upstream of Barker Road | +786
Mill Creek Tributary D | At the confluence with Mill Creek | +798 | City of Shawnee.
| Approximately 1,050 feet upstream of Woodland Drive | +823
Mill Creek Tributary E | At the confluence with Mill Creek | +803 | City of Shawnee, City of Lenexa.
| Approximately 1,800 feet upstream of the confluence of Mill Creek Tributary EB | +879
Mill Creek Tributary EA | At the confluence with Mill Creek Tributary E | +874 | City of Lenexa.
| Approximately 2,400 feet upstream of the confluence with Mill Creek Tributary E | +876
Mill Creek Tributary EB | At the confluence with Mill Creek Tributary E | +874 | City of Lenexa, City of Shawnee.
| Just downstream of Barkley Drive | +888
Mill Creek Tributary G | At the confluence with Mill Creek | +857 | City of Lenexa.
| Approximately 1,340 feet upstream of the confluence with Mill Creek | +870
Mill Creek Tributary H | At the confluence with Mill Creek | +869 | City of Lenexa, City of Olathe, Unincorporated Areas of Johnson County.
| Just downstream of College Boulevard | +968
Mill Creek Tributary HA | At the confluence with Mill Creek Tributary H | +896 | City of Lenexa.
| Approximately 790 feet upstream of Renner Boulevard | +940
Mill Creek Tributary HB | At the confluence with Mill Creek Tributary H | +957 | City of Lenexa.
| Just downstream of Eicher Drive | +982
Mill Creek Tributary J | At the confluence with Mill Creek | +919 | City of Olathe.
| Approximately 1,940 feet upstream of the confluence with Mill Creek | +926
Mill Creek Tributary L | At the confluence with Mill Creek | +932 | City of Olathe.
| Just downstream of South Ridgeview Road | +945
Mill Creek Tributary M | Approximately 720 feet upstream of Burlington & Northern Santa Fe Railway | +950 | City of Olathe.
| At the confluence with Mill Creek | +950
Mill Creek Tributary N | Approximately 580 feet upstream of South Nelson Road | +956 | City of Olathe.
| At the confluence with Mill Creek | +956
Mill Creek Tributary NA | At the confluence with Mill Creek Tributary N | +956 | City of Olathe.
| Just downstream of South Nelson Road | +957
Mill Creek Tributary O | At the confluence with Mill Creek | +959 | City of Olathe.
| Just downstream of East Kansas City Road | +1007
Negro Creek | At the confluence with Blue River | +868 | City of Overland Park, City of Leawood.
| At U.S. Highway 69 | +989
Negro Creek Tributary A | At the confluence with Negro Creek | +870 | City of Leawood, City of Overland Park.
| Approximately 300 feet upstream of the confluence of Negro Creek Tributary AC | +926
Negro Creek Tributary AB | At the confluence with Negro Creek Tributary A | +921 | City of Leawood.
| Approximately 1,050 feet upstream of the confluence with Negro Creek Tributary A | +926
Negro Creek Tributary AC | At the confluence with Negro Creek Tributary A | +923 | City of Leawood.
| At West 143rd Street | +924
Negro Creek Tributary B | At the confluence with Negro Creek | +888 | City of Leawood.
| Approximately 740 feet upstream of the confluence with Negro Creek | +892
Negro Creek Tributary C | At the confluence with Negro Creek | +908 | City of Leawood.
| At Nall Avenue | +917
Negro Creek Tributary D | At the confluence with Negro Creek | +923 | City of Overland Park.
| At West 157th Street | +947
Negro Creek Tributary E | At the confluence with Negro Creek | +925 | City of Overland Park.
| At West 156th Street | +932
Niles Creek | At the County Boundary | +940 | Unincorporated Areas of Johnson County, City of Gardner.
| Approximately 100 feet upstream of U.S. Highway 56 | +1032
Niles Creek Tributary A | At the confluence with Niles Creek | +974 | Unincorporated Areas of Johnson County.
| Approximately 4,310 feet upstream of the confluence with Niles Creek | +986
Niles Creek Tributary C | At the confluence with Niles Creek | +1003 | Unincorporated Areas of Johnson County.
| Approximately 3,020 feet upstream of the confluence with Niles Creek | +1011
North Branch Indian Creek | Approximately 220 feet upstream of the confluence with Indian Creek | +906 | City of Lenexa, City of Overland Park.
| Approximately 2,920 feet upstream of West 103rd Street | +979
North Branch Indian Creek Tributary A | At the confluence with North Branch Indian Creek | +927 | City of Overland Park.
| Just downstream of West 103rd Street | +944
North Branch Indian Creek Tributary B | At the confluence with North Branch Indian Creek | +937 | City of Overland Park, City of Lenexa.
| Approximately 600 feet upstream of Hauser Street | +980
Pickering Creek | At the confluence with Captain Creek | +922 | Unincorporated Areas of Johnson County.
| Approximately 3,920 feet upstream of West 167th Street | +979
Pickering Creek Tributary A | At the confluence with Pickering Creek | +940 | Unincorporated Areas of Johnson County.
| Approximately 3,150 feet upstream of the confluence of Pickering Creek Tributary AA | +959
Rock Creek | At the confluence with Brush Creek | +868 | City of Mission, City of Fairway, City of Mission Hills, City of Roeland Park.
| Approximately 400 feet upstream of the confluence with Rock Creek Tributary G | +960
Rock Creek Tributary A | Approximately 100 feet downstream of Shawnee Mission Parkway | +892 | City of Roeland Park, City of Fairway.
| Approximately 3,000 feet upstream of Shawnee Mission Parkway | +936
Rock Creek Tributary B | Approximately 300 feet downstream of Shawnee Mission Parkway | +898 | City of Roeland Park, City of Fairway.
| Approximately 1,100 feet upstream of West 53rd Street | +943
Rock Creek Tributary D | Approximately 450 feet downstream of West 54th Terrace | +931 | City of Roeland Park.
| Approximately 560 feet upstream of Sherwood Drive | +963
Rock Creek Tributary E | At Johnson Drive | +935 | City of Roeland Park, City of Mission.
| At West 57th Street | +940
Spoon Creek | At the confluence with Kill Creek | +821 | Unincorporated Areas of Johnson County.
| Approximately 1,280 feet upstream of West 167th Street | +988
Spoon Creek Tributary B | At the confluence with Spoon Creek | +919 | Unincorporated Areas of Johnson County.
| Approximately 4,380 feet upstream of Sunflower Road | +937
Spoon Creek Tributary C | At the confluence with Spoon Creek | +927 | Unincorporated Areas of Johnson County.
| Approximately 450 feet upstream of the confluence with Spoon Creek | +928
Spoon Creek Tributary E | At the confluence with Spoon Creek | +958 | Unincorporated Areas of Johnson County.
| Approximately 3,120 feet upstream of Sunflower Road | +975
Spring Creek | At West 215th Street | +940 | Unincorporated Areas of Johnson County, City of Spring Hill.
| Approximately 3,000 feet upstream of West 199th Street | +1029
Sweetwater Creek | Approximately 11,000 feet downstream of West 215th Street | +960 | Unincorporated Areas of Johnson County, City of Spring Hill.
| Approximately 500 feet upstream of West 207th Street | +1031
Sweetwater Creek Tributary A | At the confluence with Sweetwater Creek | +997 | Unincorporated Areas of Johnson County, City of Spring Hill.
| Approximately 5,180 feet upstream of the confluence with Sweetwater Creek | +1029
Sweetwater Creek Tributary B | At the confluence with Sweetwater Creek | +997 | Unincorporated Areas of Johnson County, City of Spring Hill.
| Approximately 2,775 feet upstream of the confluence with Sweetwater Creek | +1012
Ten Mile Creek | At West 215th Street | +1013 | Unincorporated Areas of Johnson County.
| Approximately 405 feet upstream of Lackman Road | +1024
Tomahawk Creek | At the confluence with Indian Creek | +843 | City of Leawood.
| At College Boulevard | +844
Tomahawk Creek Tributary No. 12B1 | Approximately 70 feet upstream of the confluence with Tomahawk Creek Tributary No. 12 | +924 | City of Overland Park.
| Just upstream of West 133rd Street | +925
Tomahawk Creek Tributary No. 13 | At the confluence with Tomahawk Creek | +930 | City of Overland Park.
| Approximately 1,050 feet upstream of the confluence with Tomahawk Creek | +932
Tomahawk Creek Tributary No. 13B1 | At the confluence with Tomahawk Creek | +934 | City of Overland Park.
| Approximately 50 feet upstream of the confluence with Tomahawk Creek | +934
Tomahawk Creek Tributary No. 4 | Approximately 100 feet upstream of the confluence with Tomahawk Creek | +865 | City of Leawood.
| Approximately 400 feet upstream of the confluence with Tomahawk Creek | +865
Tomahawk Creek Tributary No. 9 | Approximately 220 feet upstream of the confluence with Tomahawk Creek | +891 | City of Overland Park.
| Approximately 820 feet upstream of the confluence with Tomahawk Creek | +893
Tucker Branch | At West 215th Street | +1000 | Unincorporated Areas of Johnson County.
| Approximately 5,025 feet upstream of Renner Road | +1022
Turkey Creek | Approximately 125 feet downstream of Lamar Avenue | +844 | City of Overland Park, City of Lenexa, City of Merriam, City of Mission, City of Shawnee.
| Approximately 1,525 feet upstream of Nieman Road | +1007
Turkey Creek Tributary C | At the confluence with Turkey Creek | +895 | City of Merriam.
| Approximately 1,225 feet upstream of Merriam Drive | +897
Turkey Creek Tributary F | At the confluence with Turkey Creek | +934 | City of Merriam, City of Shawnee.
| Approximately 200 feet upstream of Flint Street | +974
Turkey Creek Tributary J | At East Frontage Road | +977 | City of Overland Park.
| Approximately 1,880 feet upstream of Mastin Street | +992
Wolf Creek | At the confluence with Blue River | +913 | City of Overland Park, Unincorporated Areas of Johnson County.
| At West 183rd Street | +1041
Wolf Creek Tributary B | At the confluence with Wolf Creek | +918 | City of Overland Park, Unincorporated Areas of Johnson County.
| At U.S. Highway 69 | +953
Wolf Creek Tributary C | At the confluence with Wolf Creek | +934 | Unincorporated Areas of Johnson County.
| At West 207th Street | +1045
Wolf Creek Tributary CC | At the confluence with Wolf Creek Tributary C | +1018 | Unincorporated Areas of Johnson County.
| At Antioch Road | +1019
Wolf Creek Tributary CD | At the confluence with Wolf Creek Tributary C | +1034 | Unincorporated Areas of Johnson County.
| At Antioch Road | +1042
Wolf Creek Tributary D | At the confluence with Wolf Creek | +939 | Unincorporated Areas of Johnson County.
| Approximately 1,140 feet upstream of the confluence with Wolf Creek | +953
Wolf Creek Tributary E | At the confluence with Wolf Creek | +941 | Unincorporated Areas of Johnson County.
| At West 199th Street | +1026
Wolf Creek Tributary EA | At the confluence with Wolf Creek Tributary E | +1006 | Unincorporated Areas of Johnson County.
| At Quivira Road | +1025
Wolf Creek Tributary EB | At the confluence with Wolf Creek Tributary E | +1021 | Unincorporated Areas of Johnson County.
| At West 199th Street | +1028
Wolf Creek Tributary F | At the confluence with Wolf Creek | +950 | Unincorporated Areas of Johnson County.
| Approximately 720 feet upstream of the confluence with Wolf Creek | +953
Wolf Creek Tributary G | At the confluence with Wolf Creek | +966 | Unincorporated Areas of Johnson County.
| At West 191st Street | +1024
Wolf Creek Tributary GA | At the confluence with Wolf Creek Tributary G | +993 | Unincorporated Areas of Johnson County.
| At West 191st Street | +1008
Wolf Creek Tributary H | At the confluence with Wolf Creek | +990 | Unincorporated Areas of Johnson County.
| At West 183rd Street | +997
Wolf Creek Tributary I | At the confluence with Wolf Creek | +997 | Unincorporated Areas of Johnson County.
| At West 183rd Street | +999
Wolf Creek Tributary J | At the confluence with Wolf Creek | +1003 | Unincorporated Areas of Johnson County.
| Approximately 2,550 feet upstream of West 183rd Street | +1021
Wolf Creek Tributary K | At the confluence with Wolf Creek | +1012 | Unincorporated Areas of Johnson County.
| Approximately 1,100 feet upstream of the confluence with Wolf Creek | +1015
Wolf Creek Tributary L | At the confluence with Wolf Creek | +1016 | Unincorporated Areas of Johnson County.
| Approximately 1,220 feet upstream of the confluence with Wolf Creek | +1034
Wolf Creek Tributary M | At the confluence with Wolf Creek | +1018 | Unincorporated Areas of Johnson County.
| Approximately 925 feet upstream of the confluence with Wolf Creek | +1019
Wolf Creek Tributary N | At the confluence with Wolf Creek | +1020 | Unincorporated Areas of Johnson County.
| Approximately 4,970 feet upstream of the confluence with Wolf Creek | +1041
Wolf Creek Tributary NA | At the confluence with Wolf Creek Tributary N | +1025 | Unincorporated Areas of Johnson County.
| Approximately 1,000 feet upstream of the confluence with Wolf Creek Tributary N | +1040
* National Geodetic Vertical Datum.
+ North American Vertical Datum.
# Depth in feet above ground.
ADDRESSES
City of Desoto
Maps are available for inspection at 33150 W. 83rd Street, De Soto, KS 66018.
City of Edgerton
Maps are available for inspection at 404 E. Nelson, Edgerton, KS 66021.
City of Fairway
Maps are available for inspection at 5252 Belinder Road, Fairway, KS 66205.
City of Gardner
Maps are available for inspection at 120 E. Main Street, Gardner, KS 66030.
City of Lake Quivira
Maps are available for inspection at 10 Crescent Boulevard, Lake Quivira, KS 66217.
City of Leawood
Maps are available for inspection at 4820 Town Center Drive, Leawood, KS 66211.
City of Lenexa
Maps are available for inspection at 12350 W. 87th Street Parkway, Lenexa, KS 66215.
City of Merriam
Maps are available for inspection at 9000 W. 62nd Terrace, Merriam, KS 66202.
City of Mission
Maps are available for inspection at 6090 Woodson, Mission, KS 66202.
City of Mission Hills
Maps are available for inspection at 6300 State Line Road, Mission Hills, KS 66208.
City of Mission Woods
Maps are available for inspection at 4700 Rainbow Boulevard, Westwood, KS 66205.
City of Olathe
Maps are available for inspection at 100 W. Santa Fe Drive, Olathe, KS 66061.
City of Overland Park
Maps are available for inspection at 8500 Santa Fe Drive, Overland Park, KS 66212.
City of Prairie Village
Maps are available for inspection at 7700 Mission Road, Prairie Village, KS 66208.
City of Roeland Park
Maps are available for inspection at 4600 W. 51st Street, Roeland Park, KS 66205.
City of Shawnee
Maps are available for inspection at 11110 Johnson Drive, Shawnee, KS 66203.
City of Spring Hill
Maps are available for inspection at 401 N. Madison Street, Spring Hill, KS 66083.
Unincorporated Areas of Johnson County
Maps are available for inspection at 111 S. Cherry Street, Suite 3500, Olathe, KS 66061.
Orange County, New York (All Jurisdictions)
Docket Nos.: FEMA-B-7741 and FEMA-B-7765
Black Meadow Creek | At confluence with Otter Kill | +377 | Town of Goshen.
| Approximately 800 feet upstream of confluence with Otter Kill | +377
Cold Brook | At confluence with Neversink River | +435 | Town of Deer Park, City of Port Jervis.
| Approximately 300 feet downstream of Beach Road | +438
Delaware River | At County boundary | +426 | Town of Deer Park, City of Port Jervis.
| Approximately 645 feet upstream of Rail Road | +470
Monhagen Brook | Approximately 0.4 mile downstream of Abe Isseks Drive | +465 | City of Middletown, Town of Wallkill, Town of Wawayanda.
| Approximately 1,200 feet upstream of Mt. Hope Road | +606
Moodna Creek | Approximately 1,100 feet downstream of spillway at Towns of Blooming Grove and Cornwall corporate limits | +260 | Town of Blooming Grove, Town of Cornwall, Village of Washingtonville.
| At the confluence with Otter Kill and Cromline Creek | +319
Neversink River | At the confluence with Delaware River | +426 | City of Port Jervis, Town of Deer Park.
| Approximately 250 feet upstream of Paradise Road | +649
Otter Kill | Approximately 1.2 miles upstream of Sora Wells Trail | +365 | Town of Goshen.
| Approximately 1.4 miles upstream of State Route 17 | +470
Otter Kill Tributary 12 | At the confluence with Otter Kill | +365 | Town of Goshen.
| Approximately 150 feet upstream of Craigville Road | +395
Perry Creek | At the confluence with Moodna Creek | +306 | Town of Blooming Grove, Village of Washingtonville.
| Approximately 500 feet upstream of Clove Road | +537
Pine Tree Brook | At confluence with Ramapo River Reach 2 | +582 | Village of Monroe.
| Approximately 25 feet upstream of State Route 17M | +582
Quaker Creek | Approximately 100 feet upstream of confluence with Browns Creek | +398 | Village of Florida.
| Approximately 150 feet upstream of Roosevelt Avenue | +456
Ramapo River Reach 2 | Approximately 2,150 feet downstream of Arden House Road | +518 | Village of Harriman, Town of Monroe, Village of Woodbury, Village of Monroe.
| Approximately 1.4 miles upstream of Reynolds Road | +838
Ramapo River Reach 2 Tributary 1 | At confluence with Ramapo River Reach 2 | +519 | Village of Harriman, Village of Woodbury.
| Approximately 1,100 feet upstream of Meadow Avenue | +519
Ramapo River Reach 2 Tributary 26 | At confluence with Ramapo River Reach 2 | +582 | Village of Monroe.
| Approximately 1,430 feet upstream of confluence with Ramapo River Reach 2 | +582
Rio Grande | Approximately 300 feet downstream of State Route 17 | +412 | Town of Goshen, Village of Goshen.
| Approximately 650 feet upstream of Greenwich Avenue | +430
Rio Grande Tributary 4 | At the confluence with Rio Grande | +427 | Village of Goshen.
| Approximately 2,160 feet upstream of Scotchtown Road | +440
Satterly Creek | At the confluence with Moodna Creek | +312 | Town of Blooming Grove, Village of South Blooming Grove, Village of Washingtonville.
| At the confluence of Satterly Creek Tributary 5 | +346
South Tributary to Wawayanda Creek | At the confluence with Wawayanda Creek | +521 | Town of Warwick, Village of Warwick.
| Approximately 2 miles upstream of Galloway Road | +778
Summit Brook | Approximately 1,318 feet downstream of East Lake Road | +562 | Village of Tuxedo Park.
| Approximately 50 feet downstream of East Lake Road | +562
Wallkill River Tributary 6 Reach 1 | At the confluence with Wallkill River | +331 | Town of Montgomery.
| Approximately 1,800 feet upstream of State Route 17K | +392
Wawayanda Creek | Approximately 2,626 feet downstream of Howe Street | +507 | Village of Warwick, Town of Warwick.
| Approximately 1.0 mile upstream of Forester Avenue | +522
Woodbury Creek | Approximately 193 feet upstream of Creamery Road | +251 | Town of Cornwall, Village of Woodbury.
| Approximately 3,300 feet upstream of Estrada Road | +487
Woodbury Creek Tributary 11 | At the confluence with Woodbury Creek | +487 | Village of Woodbury.
| Approximately 2,665 feet upstream of Dunderburg Road | +771
* National Geodetic Vertical Datum.
+ North American Vertical Datum.
# Depth in feet above ground.
ADDRESSES
City of Middletown
Maps are available for inspection at Middletown City Hall, 16 James Street, Middletown, New York.
City of Port Jervis
Maps are available for inspection at Port Jervis City Municipal Building, 14-20 Hammond Street, Port Jervis, New York.
Town of Blooming Grove
Maps are available for inspection at Blooming Grove Town Hall, 6 Horton Road, Blooming Grove, New York.
Town of Cornwall
Maps are available for inspection at Cornwall Town Hall, 183 Main Street, Cornwall, New York.
Town of Deer Park
Maps are available for inspection at Deer Park Town Building Inspector's Office, 420 Route 209, Hugenot, New York.
Town of Goshen
Maps are available for inspection at Goshen Town Hall, 41 Webster Street, Goshen, New York.
Town of Monroe
Maps are available for inspection at Monroe Town Building Department, 11 Stage Road, Monroe, New York.
Town of Montgomery
Maps are available for inspection at Montgomery Town Hall, 110 Bracken Road, Montgomery, New York.
Town of Wallkill
Maps are available for inspection at Wallkill Town Hall, 99 Tower Drive, Middletown, New York.
Town of Warwick
Maps are available for inspection at Warwick Town Municipal Building, 132 Kings Highway, Warwick, New York.
Town of Wawayanda
Maps are available for inspection at Wawayanda Town Hall, 80 Ridgeberry Hill Road, Slate Hill, New York.
Town of Woodbury
Maps are available for inspection at WoodburyTown Hall, 511 Route 32, Highland Mills, New York.
Village of Florida
Maps are available for inspection at Florida Village Hall, 33 South Main Street, Florida, New York.
Village of Goshen
Maps are available for inspection at Goshen Village Hall, 276 Main Street, Goshen, New York.
Village of Harriman
Maps are available for inspection at Harriman Village Hall, 1 Church Street, Harriman, New York.
Village of Monroe
Maps are available for inspection at Monroe Village Hall, 7 Stage Road, Monroe, New York.
Village of South Blooming Grove
Maps are available for inspection at the South Blooming Grove Village Hall, 811 State Route 208, Monroe, New York.
Village of Tuxedo Park
Maps are available for inspection at Tuxedo Park Village Hall, 80 Lorillard Road, Tuxedo Park, New York.
Village of Warwick
Maps are available for inspection at Warwick Village Hall, 77 Main Street, Warwick, New York.
Village of Washingtonville
Maps are available for inspection at Washingtonville Village Hall, 29 West Main Street, Washingtonville, New York.
Hertford County, North Carolina and Incorporated Areas
Docket Nos.: FEMA-B-7779 and FEMA-B-1010
Ahoskie Creek | At the confluence with Wiccacon River and Bear Swamp | +11 | Unincorporated Areas of Hertford County, Town of Ahoskie.
| Approximately 0.7 mile upstream of the confluence with Ahoskie Creek Tributary 8 | +62
Ahoskie Creek Tributary 1 | At the confluence with Ahoskie Creek | +18 | Unincorporated Areas of Hertford County.
| Approximately 1,325 feet upstream of DT Road (State Road 1419) | +23
Ahoskie Creek Tributary 7 | At the confluence with Ahoskie Creek | +52 | Unincorporated Areas of Hertford County.
| Approximately 0.5 mile upstream of the confluence with Ahoskie Creek | +57
Banks Creek | At the confluence with Kirby Creek | +17 | Unincorporated Areas of Hertford County.
| Approximately 960 feet upstream of the confluence of Banks Creek Tributary 1 | +18
Banks Creek Tributary 1 | At the confluence with Banks Creek | +17 | Unincorporated Areas of Hertford County.
| Approximately 0.9 mile upstream of the confluence with Banks Creek | +25
Barbeque Swamp | At the confluence with Chinkapin Creek and Chinkapin Swamp | +13 | Unincorporated Areas of Hertford County.
| At the Hertford/Bertie County boundary | +19
Bear Swamp | At the confluence with Wiccacon River and Ahoskie Creek | +11 | Unincorporated Areas of Hertford County.
| Approximately 1,111 feet upstream of Ahoskie Cofield Road (State Road 1403) | +34
Bells Branch | At the confluence with Potecasi Creek | +19 | Unincorporated Areas of Hertford County.
| Approximately 2.9 miles upstream of the confluence with Potecasi Creek | +33
Bluewater Branch | At the confluence with Cutawhiskie Creek | +28 | Unincorporated Areas of Hertford County.
| Approximately 0.5 mile upstream of the confluence of Bluewater Branch Tributary 2 | +43
Bluewater Branch Tributary 1 | At the confluence with Bluewater Branch | +32 | Unincorporated Areas of Hertford County.
| Approximately 0.5 mile upstream of Leweter Farm Road (State Road 1139) | +43
Bluewater Branch Tributary 2 | At the confluence with Bluewater Branch | +40 | Unincorporated Areas of Hertford County.
| Approximately 0.4 mile upstream of the confluence with Bluewater Branch | +49
Brooks Creek | At the confluence with Wiccacon River | +7 | Unincorporated Areas of Hertford County.
| Approximately 1.1 miles upstream of Bazemore Road (State Road 1445) | +22
Buckhorn Creek | At the confluence with Chowan River | +12 | Unincorporated Areas of Hertford County, Town of Como.
| Approximately 1.1 miles upstream of Buckhorn Church Road (State Road 1316) | +59
Catherine Creek | At the confluence with Chowan River | +7 | Unincorporated Areas of Hertford County.
| Approximately 1.1 miles upstream of the confluence of Catherine Creek Tributary 1 | +20
Catherine Creek Tributary 1 | At the confluence with Catherine Creek | +7 | Unincorporated Areas of Hertford County.
| Approximately 0.4 mile upstream of the confluence with Catherine Creek | +11
Chinkapin Creek | At the confluence with Wiccacon River | +7 | Unincorporated Areas of Hertford County.
| At the confluence of Chinkapin Swamp and Barbeque Swamp | +13
Chinkapin Creek Tributary 1 | At the confluence with Chinkapin Creek | +7 | Unincorporated Areas of Hertford County.
| Approximately 0.9 mile upstream of the confluence of Chinkapin Creek Tributary 1A | +17
Chinkapin Creek Tributary 1A | At the confluence with Chinkapin Creek Tributary 1 | +7 | Unincorporated Areas of Hertford County.
| Approximately 0.6 mile upstream of the confluence with Chinkapin Creek Tributary 1 | +17
Chinkapin Creek Tributary 2 | At the confluence with Chinkapin Creek | +11 | Unincorporated Areas of Hertford County.
| Approximately 1,390 feet upstream of Big Mill Road (State Road 1432) | +14
Chinkapin Creek Tributary 3 | At the confluence with Chinkapin Creek | +12 | Unincorporated Areas of Hertford County.
| Approximately 0.6 mile upstream of the confluence with Chinkapin Creek | +16
Chinkapin Swamp | At the confluence with Barbeque Swamp and Chinkapin Creek | +13 | Unincorporated Areas of Hertford County.
| Approximately 0.9 mile upstream of the confluence with Chinkapin Creek and Barbeque Swamp | +16
Chowan River | At the Hertford/Bertie/Chowan County boundary | +7 | Unincorporated Areas of Hertford County, Town of Winton.
| At the Virginia/North Carolina state boundary | +13
Chowan River Tributary 1 | At the confluence with Chowan River | +7 | Unincorporated Areas of Hertford County.
| Approximately 1.3 miles upstream of the confluence with Chowan River | +39
Cutawhiskie Creek | At the confluence with Potecasi Creek | +26 | Unincorporated Areas of Hertford County.
| Approximately 1.2 miles upstream of Fennell Road (State Road 1155) | +55
Cutawhiskie Creek Tributary 1 | At the confluence with Cutawhiskie Creek | +36 | Unincorporated Areas of Hertford County.
| Approximately 0.9 mile upstream of the confluence with Cutawhiskie Creek | +40
Cutawhiskie Creek Tributary 2 | At the confluence with Cutawhiskie Creek | +39 | Unincorporated Areas of Hertford County.
| Approximately 0.8 mile upstream of the confluence with Cutawhiskie Creek | +43
Cutawhiskie Creek Tributary 3 | At the confluence with Cutawhiskie Creek | +49 | Unincorporated Areas of Hertford County.
| Approximately 0.5 mile upstream of the confluence with Cutawhiskie Creek | +51
Deep Creek | At the confluence with Chowan River | +8 | Unincorporated Areas of Hertford County.
| Approximately 1.2 miles upstream of the confluence of Deep Creek Tributary 1 | +21
Deep Creek Tributary 1 | At the confluence with Deep Creek | +11 | Unincorporated Areas of Hertford County.
| Approximately 0.6 mile upstream of the confluence with Deep Creek | +23
Deep Creek Tributary 2 | At the confluence with Deep Creek | +11 | Unincorporated Areas of Hertford County, Village of Cofield.
| Approximately 1.2 miles upstream of the confluence with Deep Creek | +22
Deep Swamp | At the confluence with Chowan River | +7 | Unincorporated Areas of Hertford County.
| Approximately 1.4 miles upstream of Cullen Road (State Road 1439) | +55
Deep Swamp Tributary 1 | At the confluence with Deep Swamp | +7 | Unincorporated Areas of Hertford County.
| Approximately 1.5 miles upstream of the confluence with Deep Swamp | +26
Deep Swamp Tributary 2 | At the confluence with Deep Swamp | +8 | Unincorporated Areas of Hertford County.
| Approximately 0.9 mile upstream of the confluence with Deep Swamp | +29
Deep Swamp Tributary 3 | At the confluence with Deep Swamp | +8 | Unincorporated Areas of Hertford County.
| Approximately 1.2 miles upstream of the confluence with Deep Swamp | +41
Fort Branch | At the confluence with Ahoskie Creek | +46 | Unincorporated Areas of Hertford County.
| At the Hertford/Bertie County boundary | +55
Hares Branch | At the confluence with Meherrin River | +15 | Unincorporated Areas of Hertford County, Town of Murfreesboro.
| Approximately 0.8 mile upstream of U.S. Highway 158 | +25
Horse Swamp | At the confluence with Bear Swamp | +20 | Unincorporated Areas of Hertford County.
| Approximately 0.7 mile upstream of the Railroad | +35
Indian Creek | At the confluence with Cutawhiskie Creek | +28 | Unincorporated Areas of Hertford County.
| Approximately 0.4 mile upstream of Flea Hill Road (State Road 1142) | +39
Kill 'em Swamp | At the confluence with Long Branch | +11 | Unincorporated Areas of Hertford County.
| Approximately 2.0 miles upstream of the confluence with Long Branch | +19
Kirby Creek | At the confluence with Meherrin River | +17 | Unincorporated Areas of Hertford County.
| Approximately 150 feet upstream of the confluence of Turkey Creek | +17
Liverman Creek | At the confluence with Meherrin River | +8 | Unincorporated Areas of Hertford County.
| Approximately 0.4 mile upstream of Spiers Road (State Road 1317) | +78
Liverman Creek Tributary 1 | At the confluence with Liverman Creek | +12 | Unincorporated Areas of Hertford County.
| Approximately 1.3 miles upstream of Parkers Ferry Road (State Road 1306) | +21
Liverman Creek Tributary 1A | At the confluence with Liverman Creek Tributary 1 | +16 | Unincorporated Areas of Hertford County.
| Approximately 1.7 miles upstream of the confluence with Liverman Creek Tributary 1 | +26
Liverman Creek Tributary 2 | At the confluence with Liverman Creek | +21 | Unincorporated Areas of Hertford County.
| Approximately 0.7 mile upstream of U.S. Highway 258 | +28
Long Branch | At the confluence with Chinkapin Creek | +11 | Unincorporated Areas of Hertford County.
| Approximately 1,300 feet upstream of Quebec Road (State Road 1002) | +37
Long Branch Tributary 1 | At the confluence with Long Branch | +13 | Unincorporated Areas of Hertford County.
| Approximately 0.5 mile upstream of the confluence with Long Branch | +19
Long Branch Tributary 2 | At the confluence with Long Branch | +15 | Unincorporated Areas of Hertford County.
| Approximately 0.5 mile upstream of Quebec Road (State Road 1002) | +29
Long Branch Tributary 3 | At the confluence with Long Branch | +20 | Unincorporated Areas of Hertford County.
| Approximately 0.6 mile upstream of the confluence with Long Branch | +27
Long Branch Tributary 4 | At the confluence with Long Branch | +24 | Unincorporated Areas of Hertford County.
| Approximately 0.7 mile upstream of the confluence with Long Branch | +44
Meherrin River | At the confluence with the Chowan River | +8 | Unincorporated Areas of Hertford County, Town of Murfreesboro.
| Approximately 50 feet upstream of the Virginia/North Carolina State boundary | +26
Meherrin River Tributary 1 | At the confluence with Meherrin River | +12 | Unincorporated Areas of Hertford County.
| Approximately 1.9 miles upstream of the confluence with Meherrin River | +22
Meherrin River Tributary 2 | At the confluence with Meherrin River | +12 | Unincorporated Areas of Hertford County.
| Approximately 0.8 mile upstream of Mapleton Road (State Road 1303) | +29
Meherrin River Tributary 3 | At the confluence with Meherrin River | +19 | Unincorporated Areas of Hertford County.
| Approximately 0.8 mile upstream of Boones Bridge Road (State Road 1311) | +34
Meherrin River Tributary 4 | At the confluence with Meherrin River | +19 | Unincorporated Areas of Hertford County.
| Approximately 0.9 mile upstream of Boones Bridge Road (State Road 1311) | +25
Mill Branch | At the confluence with Potecasi Creek | +8 | Unincorporated Areas of Hertford County.
| Approximately 200 feet downstream of U.S. Highway 158 | +17
Mill Branch South | At the confluence with Ahoskie Creek | +54 | Unincorporated Areas of Hertford County.
| Approximately 0.8 mile upstream of the confluence with Ahoskie Creek | +57
Mill Branch Tributary 1 | At the confluence with Mill Branch | +8 | Unincorporated Areas of Hertford County.
| Approximately 0.6 mile upstream of the confluence with Mill Branch | +19
Old Tree Swamp | At the confluence with Potecasi Creek | +26 | Unincorporated Areas of Hertford County.
| Approximately 1.8 miles upstream of Beaver Dam Road (State Road 1167) | +50
Panther Swamp | At the confluence with Potecasi Creek | +30 | Unincorporated Areas of Hertford County.
| Approximately 1,170 feet upstream of Pine Tops Road | +49
Panther Swamp Tributary 2 | At the confluence with Panther Swamp | +44 | Unincorporated Areas of Hertford County.
| Approximately 0.4 mile upstream of the confluence with Panther Swamp | +49
Potecasi Creek | At the confluence with the Meherrin River | +8 | Unincorporated Areas of Hertford County.
| At the Hertford/Northampton County boundary | +36
Potecasi Creek Tributary 1 | At the confluence with Potecasi Creek | +10 | Unincorporated Areas of Hertford County.
| Approximately 1.2 miles upstream of U.S. 158 Highway West | +36
Potecasi Creek Tributary 2 | At the confluence with Potecasi Creek | +23 | Unincorporated Areas of Hertford County.
| Approximately 1,800 feet upstream of Country Club Road (State Road 1108) | +28
Potecasi Creek Tributary 3 | At the confluence with Potecasi Creek | +26 | Unincorporated Areas of Hertford County.
| Approximately 930 feet downstream of Boone Farm Road (State Route 1108) | +30
Snake Branch | At the confluence with Ahoskie Creek | +29 | Unincorporated Areas of Hertford County.
| Approximately 1,020 feet upstream of Jernigan Airport Road (State Road 1100) | +41
Stony Creek | At the confluence with Ahoskie Creek | +25 | Unincorporated Areas of Hertford County.
| The Hertford/Bertie County boundary | +25
Turkey Creek | At the confluence with Kirby Creek | +17 | Unincorporated Areas of Hertford County.
| Approximately 70 feet upstream of U.S. Highway 158 | +50
Turkey Creek (South) | At the confluence with Ahoskie Creek | +41 | Unincorporated Areas of Hertford County.
| Approximately 930 feet upstream of NC Highway 11 | +49
Turnpike Branch | At the confluence with Wiccacon River | +10 | Unincorporated Areas of Hertford County, Village of Cofield.
| Approximately 500 feet upstream of Ahoskie Cofield Road (SR 1403) | +37
White Oak Swamp | At the confluence with Ahoskie Creek | +11 | Unincorporated Areas of Hertford County, Town of Ahoskie.
| Approximately 2.1 miles upstream of Newsome Grove Road (SR 1419) | +42
Wiccacon River | At the confluence with Chowan River | +7 | Unincorporated Areas of Hertford County.
| At the confluence of Ahoskie Creek and Bear Swamp | +11
Wiccacon River Tributary 2 | At the confluence with Wiccacon River | +7 | Unincorporated Areas of Hertford County.
| Approximately 0.5 mile upstream of Wiccacon Road (State Road 1443) | +14
Wiccacon River Tributary 4 | At the confluence with Wiccacon River | +8 | Unincorporated Areas of Hertford County.
| Approximately 0.7 mile upstream of the confluence with Wiccacon River | +13
Wiccacon River Tributary 6 | At the confluence with Wiccacon River | +9 | Unincorporated Areas of Hertford County.
| Approximately 0.5 mile upstream of the confluence of Wiccacon River Tributary 6A | +12
Wiccacon River Tributary 6A | At the confluence with Wiccacon River Tributary 6 | +9 | Unincorporated Areas of Hertford County.
| Approximately 0.5 mile upstream of the confluence with Wiccacon River Tributary 6 | +12
* National Geodetic Vertical Datum.
+ North American Vertical Datum.
# Depth in feet above ground.
ADDRESSES
Town of Ahoskie
Maps are available for inspection at Ahoskie Town Hall, 201 West Main Street, Ahoskie, North Carolina.
Town of Murfreesboro
Maps are available for inspection at Murfreesboro Town Hall, 105 East Broad Street, Murfreesboro, North Carolina.
Town of Winton
Maps are available for inspection at Hertford County Planning Department, 704 North King Street, Winton, North Carolina.
Unincorporated Areas of Hertford County
Maps are available for inspection at Hertford County Planning Department, 704 North King Street, Winton, North Carolina.
Village of Cofield
Maps are available for inspection at Cofield Village Hall, 105 Milton Street, Cofield, North Carolina.
Tulsa County, Oklahoma, and Incorporated Areas
FEMA Docket Nos.: B-7731 and B-7744
Anderson Creek | Approximately 480 ft upstream of confluence with Fisher Creek | +656 | City of Sand Springs, Unincorporated Areas of Tulsa County.
| Approximately 2480 Feet upstream of confluence with Anderson Creek Tributary | +746
Anderson Creek Tributary | Confluence with Anderson Creek | +737 | City of Sand Springs, Unincorporated Areas of Tulsa County.
| Approximately 1780 ft upstream of S 153rd Ave W | +787
Anderson Creek Tributary A-1 | Confluence with Anderson Creek Tributary | +773 | Unincorporated Areas of Tulsa County.
| Approximately 1285 ft upstream of confluence with Anderson Creek Tributary | +785
Arkansas River | Approximately 7000 ft downstream of S 185th Ave E and E 161st St intersection (Wagoner County line) | +582 | Unincorporated Areas of Tulsa County, City of Jenks, City of Sand Springs, City of Tulsa, Town of Bixby.
| Keystone Dam | +666
Ator Tributary | Confluence with Bird Creek | +600 | City of Owasso.
| Intersection with E 4th St | +603
Berryhill Creek | Confluence with Arkansas River | +642 | City of Sand Springs, Unincorporated Areas of Tulsa County.
| Approximately 5995 ft upstream of S 65th Ave W | +714
Berryhill Creek Tributary | Confluence with Berryhill Creek | +666 | Unincorporated Areas of Tulsa County.
| Approximately 180 ft upstream of W 41st St | +704
Bigheart Creek | Confluence with Arkansas River | +644 | Unincorporated Areas of Tulsa County.
| Approximately 2000 ft upstream of W Cameron St | +674
Bird Creek Tributary 5A | Confluence with Bird Creek | +591 | City of Owasso.
| Approximately 3300 fet upstream of N 123rd Ave E | +653
Blackjack Creek | Confluence with Horsepen Creek | +603 | City of Owasso.
| Approximately 400 ft upstream of E 116th St N | +682
Blackjack Creek Tributary A | Confluence with Blackjack Creek | +613 | City of Collinsville, Unincorporated Areas of Tulsa County.
| Intersection with 19th St. | +644
Charley Creek | Confluence with Bird Creek | +617 | Unincorporated Areas of Tulsa County.
| Approximately 1020 ft upstream of N Yale Ave | +638
Cherokee School Creek | Confluence with Bird Creek | +606 | Unincorporated Areas of Tulsa County.
| Approximately 2900 ft upstream of E 66th St N | +616
Cherry Creek (North Tulsa) | Confluence with Horsepen Creek | +610 | Unincorporated Areas of Tulsa County.
| Approximately 330 ft upstream of E 126th St N | +681
Cherry Creek (West Tulsa) | Confluence with Arkansas River | +624 | Unincorporated Areas of Tulsa County, City of Tulsa.
| Approximately 2200 ft upstream of W 21st St | +643
Cherry Creek Tributary | Confluence with Cherry Creek (North Tulsa) | +661 | Unincorporated Areas of Tulsa County.
| Approximately 5800 ft upstream of E 136th St N | +687
Coal Creek (West Tulsa) | Confluence with Polecat Creek | +624 | City of Jenks, Unincorporated Areas of Tulsa County.
| Approximately 4145 feet upstream of W 151st St. intersection | +712
Coal Creek Tributary A | Confluence with Coal Creek | +646 | City of Glenpool.
| Approximately 360 Ft downstream of S Elwood Ave. | +673
Coal Creek Tributary B | Confluence with Coal Creek (West Tulsa) | +645 | City of Glenpool, Unincorporated Areas of Tulsa County.
| Intersection with E 131st Street | +698
Country Estates Creek | Confluence with Blackjack Creek | +643 | Unincorporated Areas of Tulsa County.
| Approximately 700 ft downstream of E 121st St N | +666
Duck Creek | Confluence with Snake Creek | +606 | Unincorporated Areas of Tulsa County.
| Approximately 9100 ft upstream of U.S. 75 | +684
Duck Creek Tributary | Confluence with Duck Creek | +662 | Unincorporated Areas of Tulsa County.
| Approximately 10,000 ft upstream of U.S. 75 | +686
East Blackjack Creek Tributary | Confluence with East Creek | +619 | Unincorporated Areas of Tulsa County, City of Collinsville.
| Approximately 1590 ft downstream of N. 135th Ave E. | +651
East Branch Haikey Creek | Approximately 10 feet upstream of Date Ave. | +706 | City of Broken Arrow.
| Approximately 1050 feet upstream of S. Main St. | +720
East Creek | Approximately 2780 ft downstream of E 146 St N | +600 | Unincorporated Areas of Tulsa County.
| Approximately 50 ft downstream of E 126th St N | +664
Euchee Creek Tributary 1 | Confluence with Euchee Creek | +688 | City of Sand Springs.
| Approximately 170 ft upstream of confluence with Euchee Creek | +691
Euchee Creek Tributary 2 | Confluence with Euchee Creek | +689 | Unincorporated Areas of Tulsa County.
| Approximately 2000 ft upstream of confluence with Euchee Creek | +690
Fisher Creek | Confluence with Arkansas River | +650 | Unincorporated Areas of Tulsa County.
| Approximately 4100 ft upstream of W 41st St | +795
Fisher Creek Overflow | Confluence with Arkansas River | +651 | City of Sand Springs, Unincorporated Areas of Tulsa County.
| Approximately 2600 ft upstream of S 145th Ave W | +656
Fisher Creek Tributary | Confluence with Fisher Creek | +701 | Unincorporated Areas of Tulsa County.
| Approximately 1200 ft upstream of S 157th Ave W | +775
Floral Haven Creek | Confluence with Haikey Creek | +674 | City of Broken Arrow.
| Approximately 100 ft downstream of N Aspen Ave | +726
Fox Meadow Tributary | Confluence with Blackjack Creek | +657 | Unincorporated Areas of Tulsa County.
| Approximately 1400 ft upstream of E 120th St N | +676
Franklin Creek (Formerly Arkansas River Tributary at Sand Springs) | Confluence with Arkansas River | +651 | City of Sand Springs, Unincorporated Areas of Tulsa County.
| Approximately 5,770 ft upstream of intersection with W 12th St | +750
Fred Creek | Confluence with Arkansas River | +615 | City of Tulsa
| 617 ft upstream of E 71st St. | +705
Fry Ditch No. 1 Tributary | Confluence with Fry Ditch No. 1 | +606 | Town of Bixby.
| Approximately 620 ft upstream of E 119th St | +616
Fry Ditch No. 2 | Confluence with Arkansas River | +605 | Town of Bixby.
| Approximately 522 ft upstream of E 86th St. | +727
Fry Ditch No. 2 Tributary | Confluence with Fry Ditch No. 2 | +622 | Town of Bixby.
| Approximately 60 ft downstream of E Greens Ave. | +632
Hager Creek | Confluence with Polecat Creek | +623 | City of Jenks.
| Approximately 85 feet downstream of S Elwood intersection | +629
Haikey Creek | Intersection with W. Houston St | +661 | City of Broken Arrow.
| Approximately 270 ft downstream of E. State Highway 51 | +727
Harlow Creek Overflow | Approximately 240 ft upstream of S 41st Ave W | +640 | Unincorporated Areas of Tulsa County, City of Tulsa.
| Approximately 1970 ft upstream of S 57th Ave W | +644
Horsepen Creek | Approximately 3970 feet downstream of 137th st. (county line) | +601 | City of Collinsville.
| Approximately 2400 feet upstream of N Sheridan Rd | +661
Horsepen Creek North Tributary 1 | Confluence with Horsepen Creek | +625 | Unincorporated Areas of Tulsa County.
| Approximately 1600 ft upstream of N Memorial Dr. | +642
Horsepen Creek North Tributary 2 | Confluence with Horsepen Creek | +634 | Unincorporated Areas of Tulsa County.
| Approximately 7100 ft upstream of E 166th St N | +678
Horsepen Creek North Tributary 3 | Confluence with Horsepen Creek | +637 | Unincorporated Areas of Tulsa County.
| Approximately 4300 ft downstream of N Highway 75 | +657
Horsepen Creek Tributary B | Confluence with Horsepen Creek | +642 | Unincorporated Areas of Tulsa County.
| Approximately 370 ft upstream of confluence with Horsepen Creek Tributary b Tributary | +644
Horsepen Creek Tributary B tributary | Confluence with Horsepen Creek Tributary B | +643 | Unincorporated Areas of Tulsa County.
| Approximately 2800 ft upstream of confluence witih Horsepen Creek Tributary B | +650
Horsepen Creek Tributary C | Confluence with Horcepen Creek | +646 | City of Collinsville, Unincorporated Areas of Tulsa County.
| Approximately 750 Ft upstream of E State Highway 20 | +653
Horsepin Creek | Confluence with South Fork Horse Creek | +634 | Town of Skiatook.
| Approximately 3100 ft upstream of E Cherokee St | +637
Joe Creek | Confluence with Arkansas River | +616 | City of Tulsa.
| Confluence with East and West Branches of Joe Creek | +660
Little Haikey Creek | Confluence with Haikey Creek | +624 | City of Broken Arrow.
| Approximately 30 ft. downstream of E. 76th St. | +725
Little Sand Creek | Confluence with Arkansas River | +663 | Unincorporated Areas of Tulsa County.
| Approximately 4680 ft upstream of W 8th St. | +751
Lower Fred Creek | Confluence with Arkansas River | +614 | City of Tulsa.
| Approximately 324 ft upstream of E 86th St | +618
Middle Branch Haikey Creek | Confluence with East Branch Haikey Creek | +651 | City of Broken Arrow.
| Approximately 50 ft downstream of W Kenosha St | +716
Mooser Creek | Confluence with Arkansas River | +624 | City of Tulsa.
| Approximately 314 ft downstream of W 57th St. | +713
Neckel Creek | Confluence with Polecat Creek | +630 | City of Tulsa.
| Approximately 950 ft upstream of W 91st St. | +636
Nichols Creek | Confluence with Coal Creek (West Tulsa) | +681 | City of Glenpool.
| 2,180 Feet downstream from W 141st Street (County Boundary) | +755
Olive Creek | Confluence with Haikey Creek | +655 | City of Broken Arrow
| At intersection with Kenosha St. | +700
Panther Creek | Confluence with Charley Creek | +624 | Unincorporated Areas of Tulsa County.
| Approximately 2100 ft upstream of N Yale Ave | +639
Park Grove Creek | Confluence with Middle Branch Haikey Creek | +685 | City of Broken Arrow.
| Approximately 100 ft downstream of N Elm Pl | +720
Polecat Creek | Confluence with Arkansas River | +610 | City of Jenks, Unincorporated Areas of Tulsa County.
| Intersection with S 33rd Ave. | +634
Posey Creek | Confluence with Arkansas River | +606 | City of Glenpool.
| Approximately 52 feet upstream of E 151st Street | +703
Posey Creek North Tributary 1 | Confluence with Posey Creek | +630 | Unincorporated Areas of Tulsa County.
| Approximately 130 ft downstream of S 7th St | +712
Posey Creek South Tributary 1 | Confluence with Posey Creek | +610 | Unincorporated Areas of Tulsa County, Town of Bixby.
| Approximately 2700 ft upstream of E 151st St | +668
Posey Creek South Tributary 2 | Confluence with Posey Creek | +624 | Unincorporated Areas of Tulsa County, Town of Bixby.
| Approximately 540 ft upstream of S Harvard Ave | +662
Prattville Creek | Confluence with Arkansas River | +649 | City of Sand Springs.
| Approximately 930 Ft upstream of S 112th Ave W | +739
Prattville Creek Tribuatary 1 | Confluence with Prattville Creek | +667 | City of Sand Springs.
| Approximately 780 ft upstream of confluence with Prattville Creek | +671
Prattville Creek Tributary 2 | Confluence with Prattville Creek | +693 | City of Tulsa.
| Approximately 260 ft downstream of S Whispering Creek Dr | +701
Prattville Creek Tributary 3 | Confluence with Prattville Creek | +712 | City of Sand Springs.
| Approximately 1350 ft downstream of S Linwood Dr | +725
Prattville Creek Tributary 4 | Confluence with Prattville Creek | +728 | City of Sand Springs.
| Approximately 260 ft upstream of confluence with Prattville Creek | +730
Ranch Creek | Confluence with Bird Creek | +592 | Unincorporated Areas of Tulsa County.
| Approximately 1070 ft upstream of E 116th St N | +659
Ranch Creek Tributary | Confluence with Ranch Creek | +592 | Unincorporated Areas of Tulsa County.
| Approximately 1100 ft upstream of N Sheridan Rd | +669
Ranch Creek Tributary A | Confluence with Ranch Creek | +592 | City of Owasso.
| Intersection with N Garnett Rd. | +674
Ranch Creek Tributary B | Confluence with Ranch Creek | +608 | City of Owasso, Unincorporated Areas of Tulsa County.
| Approximately 50 ft downstream of E 106th St | +650
Redfork Creek | Conflucence with Arkansas River | +647 | City of Sand Springs, Unincorporated Areas of Tulsa County.
| Approximately 1680 ft upstream of E 41st St | +647
Redfork Creek Tribuatary 1 | Confluence with Redfork Creek | +696 | City of Sand Springs.
| Approximately 1500 ft upstream of confluence with Redfork Creek | +722
Redfork Creek Tributary 2 | Confluence with Redfork Creek | +715 | City of Sand Springs.
| Approximately 775 ft upstream of confluence with Redfork Creek | +744
Remington Tributary | Confluence with Blackjack Creek | +650 | Unincorporated Areas of Tulsa County.
| Approximately 250 ft upstream of E 122nd St N | +653
Rolling Meadows Creek | Confluence with Coal Creek (West Tulsa) | +691 | City of Glenpool, Unincorporated Areas of Tulsa County.
| Approximately 1480 Ft. upstream of S 26th Ave. W. Intersection | +740
Sand Creek | Confluence with Arkansas River | +659 | City of Sand Springs.
| Intersection with Archer St | +722
Sand Springs Lake Tributary | Confluence with West Bigheart Creek | +661 | City of Sand Springs.
| Approximately 1,460 ft upstream of Old North RD E | +773
Sawgrass Tributary | Confluence with Ranch Creek Tributary B | +647 | City of Owasso.
| Approximately 850 ft upstream of confluence with Ranch Creek Tribuatary B | +654
Shady Grove Creek | Confluence with Harlow Creek | +658 | Unincorporated Areas of Tulsa County.
| Approximately 3235 ft upstream of U.S. 64 | +664
Skunk Creek | Confluence with Bird Creek | +636 | Unincorporated Areas of Tulsa County.
| Approximately 1450 ft upstream of N Lewis Ave | +667
Snake Creek | Confluence with Arkansas River | +598 | Unincorporated Areas of Tulsa County.
| Approximately 10,900 ft upstream of 201st St | +613
Snake Creek Tributary | Confluence with Snake Creek | +598 | Unincorporated Areas of Tulsa County.
| Approximately 1381 ft upstream of E 181st St | +603
Three Lakes Tributary | Confluence with Bird Creek Tributary 5A | +603 | City of Owasso.
| Approximately 320 Ft downstream of E 83rd St. N | +604
Turtle Creek | Approximately 2000 Ft downstream of Aspen intersection | +666 | City of Broken Arrow.
| Approximately 100 ft downstream of W Houston St | +704
Vensel Creek | Confluence with Arkansas River | +610 | City of Tulsa.
| Approximately 49 ft downstream of E 82nd St | +690
Vensel Creek South | Confluence with Arkansas River | +610 | City of Tulsa.
| Approximately 39 ft downstream of E 101st St | +616
West Bigheart Creek | Confluence with Bigheart Creek | +650 | City of Sand Springs
| Approximately 2300 ft upstream of E Old North Rd | +721
West Branch Haikey Creek Tributary | Confluence with West Branch Haikey Creek | +667 | City of Broken Arrow.
| Approximately 580 Ft downstream of W. Elgin St. | +674
White Church Creek | Confluence with Haikey Creek | +605 | Unincorporated Areas of Tulsa County.
| Approximately 218 ft upstream of E 111th St. | +680
* National Geodetic Vertical Datum.
+ North American Vertical Datum.
# Depth in feet above ground.
ADDRESSES
City of Broken Arrow
Maps are available for inspection at 115 E. Commercial Street, Broken Arrow, OK 74013.
City of Collinsville
Maps are available for inspection at 106 N. 12th St., Collinsville, OK 74021.
City of Glenpool
Maps are available for inspection at 14522 Broadway, Glenpool, OK 74033.
City of Jenks
Maps are available for inspection at 2111 N. Elm St., Jenks, OK 74037.
City of Owasso
Maps are available for inspection at 207 South Cedar St., Owasso, OK 74055.
City of Sand Springs
Maps are available for inspection at 216 North Lincoln, Sand Springs, OK 74063.
City of Tulsa
Maps are available for inspection at 2317 South Jackson, ste. 302, Tulsa, OK 74103.
Town of Bixby
Maps are available for inspection at 116 West Needles St., Bixby, OK 74008.
Town of Skiatook
Maps are available for inspection at 100 North Broadway, Skiatook, OK 74070.
Unincorporated Areas of Tulsa County
Maps are available for inspection at 633 W. 3rd. Ste 140, Tulsa, OK 74127.
Madison County, Tennessee, and Incorporated Areas
FEMA Docket No. B-7792
Cane Creek | At Hicks Avenue | +355 | City of Jackson, Unincorporated Areas of Madison County.
| Approximately 1.5 miles upstream of Riverside Drive | +434
Dyer Creek | Approximately 1,00 feet upstream of the confluence with Middle Fork of Forked Deer River | +356 | City of Jackson, Unincorporated Areas of Madison County.
| Just downstream of North Royal Street | +441
Middle Fork of Forked Deer River | Approximately 2,160 feet upstream of the confluence of Moize Creek | +351 | City of Three Way.
| Approximately 650 feet downstream of U.S. Route 45 | +356
Turkey Creek | Approximately 3,070 feet above the confluence of Middle Fork of Forked Deer River | +356 | City of Three Way.
| Approximately 3,470 feet upstream of Mason Road | +367
* National Geodetic Vertical Datum.
+ North American Vertical Datum.
# Depth in feet above ground.
ADDRESSES
City of Jackson
Maps are available for inspection at Planning Department, 111 East Main Street, Suite 201, Jackson, TN 38301.
City of Three Way
Maps are available for inspection at Office of the Mayor, 136 Green Road, Three Way, TN 38343.
Unincorporated Areas of Madison County
Maps are available for inspection at Madison County Commissioner's Office Building, 100 East Main Street, Jackson, TN 38301.

(Catalog of Federal Domestic Assistance No. 97.022, “Flood Insurance.”)

Dated: February 26. 2009.
Michael K. Buckley,
Acting Assistant Administrator, Mitigation Directorate, Department of Homeland Security, Federal Emergency Management Agency.

[FR Doc. E9-6706 Filed 3-24-09; 8:45 am]

BILLING CODE 9110-12-P